DEPARTMENT OF JUSTICE

[CPCLO Order No. 06-2016]

Privacy Act of 1974; Systems of Records

AGENCY: Criminal Division, United States Department of Justice.

ACTION: Notice of a new system of records.

SUMMARY: Pursuant to the Privacy Act of 1974, 5 U.S.C. 552a, and Office of Management and Budget (OMB) Circular No. A-130, notice is hereby given that the Criminal Division (CRM), a component within the United States Department of Justice (Department or DOJ), is establishing a new system of records as noted below to process applications filed by individuals seeking compensation from the United States Victims of State Sponsored Terrorism Fund.

DATES: In accordance with 5 U.S.C. 552a(e)(4) and (11), this system of records notice will become effective upon publication, subject to a 30-day comment period for the routine uses claimed in the “ROUTINE USES OF RECORDS MAINTAINED IN THE SYSTEM” section of this systems of records notice. Therefore, please submit any comments regarding the described routine uses by August 15, 2016.

ADDRESSES: The public, OMB, and Congress are invited to submit any comments to the Department of Justice, ATTN: Privacy Analyst, Office of Privacy and Civil Liberties, Department of Justice, National Place Building, 1331 Pennsylvania Avenue NW., Suite 1000, Washington, DC 20530, or by facsimile at 202-307-0693. To ensure proper handling, please reference the above-listed CPCLO Order No. on your correspondence.

FOR FURTHER INFORMATION CONTACT: Amanda Marchand Jones, Chief, FOIA/PA Unit, Criminal Division, Suite 1127 Keeney Building, NW., Washington, DC 20530, or by facsimile at 202-514-6117.

SUPPLEMENTARY INFORMATION: The Justice for United States Victims of State Sponsored Terrorism Act (Act), passed as part of the Consolidated Appropriations Act of 2016, Public Law 114-113, mandated the establishment of the United States Victims of State Sponsored Terrorism Fund (Fund). Pursuant to the Act, the Fund may compensate eligible United States persons who (1) hold a final judgment issued by a United States district court awarding the applicant compensatory damages arising from acts of international terrorism for which a foreign state sponsor of terrorism was found not immune from the jurisdiction of the courts of the United States under the Foreign Sovereign Immunities Act; or (2) were taken and held hostage from the United States Embassy in Tehran, Iran, during the period beginning November 4, 1979, and ending January 20, 1981, or are spouses and children of these hostages, if also identified as a member of the proposed class in case number 1:00-CV-03110 (EGS) of the United States District Court for the District of Columbia. In order to establish eligibility for compensation, claimants must provide sufficient information for a determination by the Special Master for the USVSST Fund, of whether they are eligible, and if so, what amount of compensation. The Act also mandates collection of information regarding other sources of compensation related to the judgment which may modify the amount of compensation. This system of records is being established to enable the prompt adjudication of these claims.

Elsewhere in the Federal Register, the Department has provided the eligibility requirements and procedures for the submission and consideration of applications to the Fund. More detailed information regarding the Fund, including answers to frequently asked questions, is available on the U.S. Victims of State Sponsored Terrorism Web site at www.usvsst.com.

In accordance with 5 U.S.C. 552a(r), the Department is providing a report to OMB and Congress on the new systems of records.

Dated: July 8, 2016.
Erika Brown Lee,
Chief Privacy and Civil Liberties Officer, United States Department of Justice.

Justice/CRM-029

SYSTEM NAME:

United States Victims of State Sponsored Terrorism Fund (USVSSTF) File System.

SECURITY CLASSIFICATION:

Unclassified.

SYSTEM LOCATION:

Records in this system are located at: U.S. Department of Justice, Criminal Division, 950 Pennsylvania Avenue NW., Washington, DC 20530; Federal Records Center, Suitland, MD 20409, 5151 Blazer Parkway, Suite A, Dublin, OH 43017; and 1985 Marcus Avenue, Suite 200, Lake Success, NY 11042.

CATEGORIES OF INDIVIDUALS COVERED BY THE SYSTEM:

The system covers: Those individuals claiming eligibility for compensation from the United States Victims of State Sponsored Terrorism Fund, including the personal representative of any decedent's estate, or legal counsel representing the claimant; and those DOJ employees, including contractors, that are administering, assessing, and adjudicating the claims.

CATEGORIES OF RECORDS IN THE SYSTEM:

Application forms filed by or on behalf of claimants seeking benefits under the Fund; documentation submitted in support of claims; legal, personal, financial, insurance, tax, and other records obtained or generated to assess, adjudicate, and pay claims.

AUTHORITY FOR MAINTENANCE OF THE SYSTEM:

Justice for United States Victims of State Sponsored Terrorism Act, enacted into law as Title IV, Division O, section 404 of the Consolidated Appropriations Act, 2016, Public Law 114-113, codified at 42 U.S.C. 10609 (2015).

PURPOSE(S):

These records are collected or generated for the purpose of determining eligibility of and compensation to claimants under the United States Victims of State Sponsored Terrorism Act.

ROUTINE USES OF RECORDS MAINTAINED IN THE SYSTEM, INCLUDING CATEGORIES OF USERS AND THE PURPOSES OF SUCH USES:

A record maintained in this system of records may be disseminated as a routine use of records as follows:

(a) To the Department of Treasury to ensure that any recipients of federal payments who also owe delinquent federal debts have their payment offset or withheld or reduced to satisfy the debt.

(b) Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

(c) In an appropriate proceeding before a court, grand jury, or administrative or adjudicative body, when the Department of Justice determines that the records are arguably relevant to the proceeding; or in an appropriate proceeding before an administrative or adjudicative body when the adjudicator determines the records to be relevant to the proceeding.

(d) To an actual or potential party to litigation or the party's authorized representative for the purpose of negotiation or discussion of such matters as settlement, plea bargaining, or in informal discovery proceedings.

(e) To the news media and the public, including disclosures pursuant to 28 CFR 50.2, unless it is determined that release of the specific information in the context of a particular case would constitute an unwarranted invasion of personal privacy.

(f) To contractors, grantees, experts, consultants, students, and others performing or working on a contract, service, grant, cooperative agreement, or other assignment for the federal government, when necessary to accomplish an agency function related to this system of records.

(g) To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(h) To a Member of Congress or staff acting upon the Member's behalf when the Member or staff requests the information on behalf of, and at the request of, the individual who is the subject of the record.

(i) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(j) To the National Archives and Records Administration for purposes of records management inspections conducted under the authority of 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Records are maintained in a hard-copy, paper format in filing cabinets in a secure room. Electronic data is stored in electronic media via a configuration of client/servers and personal computers. Records are stored in accordance with applicable executive orders, statutes, and agency implementing regulations.

RETRIEVABILITY:

Files and automated data are retrieved by name of a claimant, the personal representative, or legal counsel of a claimant, claim number, Social Security Number and/or Tax Identification Number.

SAFEGUARDS:

Information in this system is maintained in accordance with applicable laws, rules, and policies on protecting individual privacy. Access to the servers storing electronic data and the backup tapes is controlled by a card-key security system with access provided only to appropriate personnel. Backup tapes stored offsite are maintained in accordance with a government contract that requires adherence to applicable laws, rules, and policies on protecting individual privacy. Internet connections are protected by multiple firewalls. Security personnel conduct periodic vulnerability scans to ensure security compliance and access reviews are conducted on a regular basis. User access requires two factor RSA authentication and user access is determined by the minimal amount of user authorization necessary to complete their job. Paper records are maintained in a secure room.

RETENTION AND DISPOSAL:

Records are to be retained and disposed of in accordance with agency retention plans.

SYSTEM MANAGER(S) AND ADDRESS:

Assistant Attorney General, Criminal Division, U.S. Department of Justice, 950 Pennsylvania Avenue NW., Washington, DC 20503-0001.

NOTIFICATION PROCEDURE:

Same as “RECORD ACCESS PROCEDURES,” below.

RECORD ACCESS PROCEDURES:

All requests for access must be in writing and should be addressed to: Chief, FOIA/PA Unit, Criminal Division, Department of Justice, 950 Pennsylvania Avenue NW., Washington, DC 20530-0001 or crm.foia@usdoj.gov. The communication should be clearly marked “Privacy Act Access Request.” The request should include a general description of the records sought and must include the requester's full name, current address, and date and place of birth. The request must be signed and either notarized or submitted under penalty of perjury.

Although no specific form is required, you may obtain forms for this purpose from the FOIA/Privacy Act Mail Referral Unit, Justice Management Division, United States Department of Justice, 950 Pennsylvania Avenue NW., Washington, DC 20530-0001, or on the Department of Justice Web site at http://www.justice.gov/oip/oip-request.html.

CONTESTING RECORD PROCEDURES:

Individuals seeking to contest or amend information maintained in the system should direct their requests to the address indicated in the “RECORD ACCESS PROCEDURES” section, above, stating clearly and concisely what information is being contested, the reasons for contesting it, and the proposed amendment to the information sought. The communication should be clearly marked “Privacy Act Amendment Request.”

RECORD SOURCE CATEGORIES:

Individuals or entities having information pertinent to the adjudication of compensation claims, including but not limited to: Injured individuals; personal representatives of deceased individuals; eligible claimants; family members; physicians and other medical professionals, hospitals, and clinics; insurers, employers, and their agents and representatives.

EXEMPTIONS CLAIMED FOR THE SYSTEM:

None.

[FR Doc. 2016-16670 Filed 7-13-16; 8:45 am]

BILLING CODE 4410-14-P